NATIONAL AERONAUTICS AND SPACE ADMINISTRATION

14 CFR Parts 1264 and 1271

RIN 2700-AE48

[Document Number NASA-19-003: Docket Number-NASA-2019-0002]

Implementation of the Federal Civil Penalties Inflation Adjustment Act and Adjustment of Amounts for 2019

Correction

In rule document 2019-06555 appearing on pages 13114-13115 in the issue of April 4, 2019, make the following correction:

§ 1264.102 [Corrected]

On page 13115, in the second column, in amendatory instruction 2, the fifth line “(b)(1)(iii)” should read “(b)(1)(ii)”.

[FR Doc. C1-2019-06555 Filed 4-10-19; 8:45 am]

BILLING CODE 1301-00-D